DEPARTMENT OF HEALTH AND HUMAN SERVICES

Office of the Secretary

Office of Budget, Technology and Finance; Statement of Organization, Functions, and Delegations of Authority

Part A, Office of the Secretary, Statement of Organization, Functions and Delegations of Authority for the Department of Health and Human Services (HHS) is being amended as follows: Chapter AM, Office of Budget, Technology and Finance, Office of Information Resources Management (AMM), as last amended at 68 FR 11555-11562), dated March 11, 2003. This reorganization will retitle the Office of OS IT Development and Services (AMM3), Office of Information and Resources Management (OIRM) to the Information Technology Services Center (ITSC), to reflect its expanding responsibilities in providing information technology services within the Department. The changes are as follows: Under Chapter AM, Office of Budget, Technology and Finance, Section AM.20 Functions, make the following corrections:

A. Under Paragraph C, Section AMM.10 Organization, delete in its entirety and replace with the following:

Section AMM.10 Organization. The Office of Information Resources Management (OIRM) is supervised by the Deputy Assistant Secretary for Budget, Technology and Finance. The CIO serves as the primary IT leader for the Department. OIRM consists of the following:

• Immediate Office (AMM1)

• Office of IT Policy Development & Implementation (AMM2)

• Information Technology Services Center (AMM3)

• Office of HHS Enterprise Operations (AMM4)

• Office of Information Security Development and Implementation (AMM5)

B. Under Section AMM..20 Functions, delete Paragraph 3, “Office of OS IT Development and Services” in its entirety, and replace with the following:

3. Information Technology Services Center (AMM3)—The Information Technology Service Center (ITSC) is responsible for providing Network Services, Help Desk, Call center, Desktop Support, Web Architecture, server Architectures, OPDIV IT Security, Secretary's Command Center and Continuity of Operations Planning (COOP) support, and Outreach/Customer Relationship Management (CRM). It is directed by the Director of IT Services. It is also a primary resource for advising the HHS CIO on technology implementation, and for piloting HHS CIO special programs. ITS is responsible for the following:

a. Operating, maintaining, and enhancing the ITSC computer network and services, including services for participating HHS organizations.

b. Implementing and monitoring network policies and procedures, and developing plans and budgets for network support services.

c. Ensuring reliable, high-performance network services.

d. Implementing and operating electronic tools to enhance Secretarial communications with all HHS personnel.

e. Coordinating with OPDIVs and STAFFDIVs to develop ITSC, IT capital planning and budgeting processes, providing direct planning support to assure that IRM plans support agency business planning and mission accomplishment, as it applies to the infrastructure.

f. Implementing policies and guidance on information resources management within ITSC for acquisition and use of information technology, support of technical R model, and coordination of implementation procedures.

g. Maintaining and operating the inventory of automated data processing equipment for the ITSC participating agencies.

h. Operating and maintaining an information technology support service (Help Desk and Call Center) for participating HHS components.

i. Managing contracts for equipment and support services related to the provision of IT services in ITSC participating agencies.

j. Representing the Department through participation on interagency and Departmental work groups and task forces, as appropriate.

k. Responsible for ITSC compliance with and implementation of all applicable HHS policies and Federal Laws regarding IT Security.

l. Reviewing and facilitating acquisitions for activities related to ITSC.

Dated: July 28, 2003.
Ed Sontag,
Assistant Secretary for Administration and Management.

[FR Doc. 03-25283 Filed 10-3-03; 8:45 am]

BILLING CODE 4150-04-M